DEPARTMENT OF TRANSPORTATION

Federal Aviation Administration

Public Notice for a Change in Use of Aeronautical Property at Barnstable Municipal Airport, Hyannis, MA

AGENCY: Federal Aviation Administration (FAA), DOT.

ACTION: Request for Public Comments.

SUMMARY: The FAA is requesting public comment on the Town of Barnstable, MA request to change a portion (6.94 acres) of Airport property from aeronautical use to non-aeronautical use. The property is located behind the Airport's East Ramp and adjacent to the railroad right-of-way on land located on along the former Mary Dunn Way. The land is currently a land locked vacant parcel. The parcel will be leased to the Woods Hole, Martha's Vineyard and Nantucket Steamship Authority (“Authority”) for use as a parking area during the months of July and August. During the remainder of the year, both the Authority and Airport will use the lot for overflow parking. The property was acquired under the Surplus Property Act and Airport Development Aid Projects 6-25-0025-07 and 6-25-0025-10. These lease term is for five years with three additional five-year terms. Should the land be required for airport purposes, the lease can be terminated at any time upon six month written notice to the Authority.

The disposition of proceeds from the disposal of airport property will be in accordance with FAA's Policy and Procedures Concerning the Use of Airport Revenue, published in the Federal Register on February 16, 1999.

DATES: Comments must be received on or before June 27, 2005.

ADDRESSES: Documents are available for review by appointment by contacting Dr. Quincy Mosby, Manager, Barnstable Municipal Airport, Hyannis, MA at Barnstable Municipal Airport, 480 Barnstable Road, Hyannis, MA 02601, Telephone 508-775-2020 or by contacting Donna R. Witte, Federal Aviation Administration, 16 New England Executive Park, Burlington, Massachusetts, Telephone 781-238-7624.

FOR FURTHER INFORMATION CONTACT: Donna R. Witte at the Federal Aviation Administration, 12 New England Executive Park, Burlington, Massachusetts 01803, Telephone 781-238-7624.

SUPPLEMENTARY INFORMATION: Section 125 of The Wendell H. Ford Aviation Investment and Reform Act for the 21st Century (AIR 21) requires the FAA to provide an opportunity for public notice and comment to the “waiver” or “modification” of a sponsor's Federal obligation to use certain airport property for aeronautical purposes.

Issued in Burlington, Massachusetts on May 10, 2005.
Bryon H. Rakoff,
Acting Manager, Airports Division, New England Region.

[FR Doc. 05-10598 Filed 5-26-05; 8:45 am]

BILLING CODE 4910-13-M